DEPARTMENT OF STATE

[Public Notice 5620]

Announcement of Meetings of the International Telecommunication Advisory Committee

SUMMARY: This notice announces meetings of the International Telecommunication Advisory Committee (ITAC) to prepare advice on U.S. positions for the Study Group 7 meetings of the International Telecommunication Union—Radiocommunication Sector (ITU-R), for a Rapporteur Group meeting for Study Group 2 of the ITU Telecommunication Development Sector, and for the ITU Telecommunication Sector Advisory Group (TSAG), Study Group 4 (Telecommunication Management) and Study Group 2 (Operational aspects of service provision, networks and performance).

The ITAC will meet to prepare advice on U.S. positions to be taken at the February meeting of ITU-R Study Group 7 (Science services) on January 11, 2007 from 1:30 to 4 p.m. Eastern Time at NASA Headquarters, 300 E St., SW., Washington, DC 20546, Room 7H45 (also known as MIC 7A). For access to NASA HQ use 4th St. entrance and contact Ron Carbery (202-358-0985) at visitor station. A conference badge will be provided: 888-550-9509 (from within U.S.); 203-692-0779 (from outside U.S..); Passcode—221181#. For further information on this meeting, contact Wayne Whyte, Chairman U.S. SG-7 at wayne.a.whyte@nasa.gov, telephone (216) 235-6024.

The ITAC will meet to prepare advice on U.S. positions to be taken at the March meeting of ITU-D Study Group 2 Question 22 “Utilization of ICT for disaster management and active and passive sensing systems as they apply to disaster prediction, detection and mitigation” on December 19, 2006, and January 23, 2007, both 10 a.m.-noon. The meetings will both be held in the offices of TerreStar, 1050 Connecticut Avenue, NW., Suite 1000, Washington, DC 20036. TerreStar is located a block from Farragut North (red line metro) and 3 blocks from Farragut West (orange and blue lines). For further information on TerreStar's offices, call Kelly O'Keefe at 202-772-1873. A telephone bridge will be provided: Call-in: 866-917-3767, Passcode: 1729853.

The ITAC will meet to prepare advice on U.S. positions to be taken at the March meeting of the Telecommunication Sector Advisory Group (TSAG) on December 18 and January 18. Times and locations of these meetings may be obtained by calling the secretariat below.

The ITAC will meet to prepare advice on U.S. positions to be taken at ITU-T Study Groups 4 and 2 on January 17, 2006 at the offices of Verizon Communications, 1300 Eye Street, Washington, DC from 9:30-noon. Study Group 4 agenda items will be considered before Study Group 2 items. A conference bridge will be provided: Call in: 866-259-6272, Passcode: 3552338.

These meetings are open to the public. Further information may be obtained from the secretariat minardje@state.gov, telephone 202-647-3234.

Dated: November 21, 2006.
James G. Ennis,
Foreign Affairs Officer, International Communications & Information Policy, Multilateral Affairs, Department of State.

[FR Doc. E6-20273 Filed 11-29-06; 8:45 am]

BILLING CODE 4710-07-P